DEPARTMENT OF COMMERCE

International Trade Administration

[A-351-806]

Silicon Metal From Brazil; Amended Final Results of Antidumping Duty Administrative Review in Accordance With Court Decision

AGENCY: Import Administration, International Trade Administration, Department of Commerce.

ACTION: Notice of amended final results of antidumping duty administrative review in accordance with court decision.

SUMMARY: On February 17, 1999, the Court of International Trade (CIT) affirmed the remand determination of the Department of Commerce (the Department) arising from the administrative review of the antidumping duty order on silicon metal from Brazil. See American Silicon Technologies, Elkem Metals Company, Globe Metallurgical, Inc. and SKW Metals & Alloys, Inc. v. United States, _CIT_, Slip Op. 99-17, (February 17, 1999). No party appealed this decision. As there is now a final and conclusive court decision in this segment, we are amending the final results of reviews in this matter and will instruct the U.S. Customs Service to liquidate entries subject to these amended final results.

EFFECTIVE DATE: May 23, 2000.

FOR FURTHER INFORMATION CONTACT: Robert Bolling or Jim Doyle, Antidumping/Countervailing Duty Enforcement, Import Administration, International Trade Administration, U.S. Department of Commerce, 14th Street and Constitution Avenue, NW, Washington DC 20230; telephone (202) 482-3434 and (202) 482-0159, respectively.

SUPPLEMENTARY INFORMATION:

Background

On July 31, 1991, the Department issued an antidumping duty order on silicon metal from Brazil. See Antidumping Duty Order: Silicon Metal from Brazil, 56 FR 36135 (July 31, 1991) (Antidumping Duty Order). On September 5, 1996, the Department published its final results of the second administrative review of silicon metal for four Brazilian exporters, Companhia Brasilerira Carbureto de Calcio (“CBCC”), Companhia Ferroligas Minas Gerais-Minasligas (“Minasligas”), Eletrosilex Belo Horizonte (“Eletrosilex”), Rima Eletrometalurgia S.A. (“Rima”). See Silicon Metal from Brazil; Final Results of Antidumping Administrative Review, 61 FR 46763 (September 5, 1996) (Final Results). On September 9, 1997, the Department published amended final results to correct ministerial errors raised by the parties after requesting and receiving from the CIT authority to do so. See Silicon Metal from Brazil: Amended Final Results of Antidumping Duty Administrative Review 62 FR 47441 (September 9, 1997) (Amended Final Results).

On July 30, 1998, the CIT issued an order, American Silicon Technologies v. United States, 19 F. Supp. 2d 1121 (CIT 1998), remanding to the Department the Amended Final Results. In its July 30, 1998 order, the CIT instructed the Department to ensure that any reduction of reported interest expenses for CBCC and Eletrosilex is based upon income specifically derived from short-term investments. Id., at 1123.

On December 16, 1998, the Department filed its final results pursuant to remand. See Final Results of Redetermination Pursuant to Court Remand, American Silicon Technologies, Elkem Metals Company, Globe Metallurgical, Inc. and SKW Metals & Alloys, Inc. v. United States (December 16, 1998). On February 17, 1999, the CIT upheld the Department's redetermination on remand. See American Silicon Technologies, Elkem Metals Company, Globe Metallurgical, Inc. and SKW Metals & Alloys, Inc. v. United States, _CIT_, Slip Op. 99-17, (February 17, 1999). Neither party appealed the CIT's decision.

Because neither party appealed, there is now a final and conclusive court decision in this action. We are therefore amending our final results of review for the period July 1, 1992 through June 30, 1993. We recalculated margins for CBCC and Eletrosilex. The revised weighted average margins are as follows:

Manufacturer/Exporter | Margin (percent)
CBCC | 35.43
Eletrosilex | 51.84

Accordingly, the Department will determine, and the Customs Service will assess, antidumping duties on all entries of subject merchandise from CBCC and Eletrosilex in accordance with these amended final results. For assessment purposes, we have calculated importer-specific duty assessment rates for each class or kind of merchandise based on the ratio of the total amount of antidumping duties calculated for the examined sales to the total quantity of sales examined. The Department will issue appraisement instructions directly to Customs. The above rate will not affect CBCC or Eletrosilex's cash deposit rates currently in effect, which continue to be based on the margins found to exist in the most recently completed review.

This notice is published in accordance with section 751(a)(1) of the Tariff Act (19 U.S.C. 1675(a)(1)) and 19 CFR 351.221.

Dated: May 15, 2000.
Troy H. Cribb,
Acting Assistant Secretary for Import Administration.

[FR Doc. 00-12980 Filed 5-22-00; 8:45 am]

BILLING CODE 3510-DS-P